DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of January 17, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Lee County, Alabama and Incorporated Areas
Docket No.: FEMA-B-2319
City of Auburn | Planning and Development, 171 North Ross Street, Auburn, AL 36830.
City of Opelika | Planning Department, 700 Fox Trail, Opelika, AL 36801.
Town of Notasulga | Town Hall, 76 West Main Street, Notasulga, AL 36866.
Unincorporated Areas of Lee County | Lee County Building Inspection, 100 Orr Avenue, Opelika, AL 36801.
Clay County, Illinois and Incorporated Areas
Docket No.: FEMA-B-2360
City of Flora | City Hall, 131 East 2nd Street, Flora, IL 62839.
Unincorporated Areas of Clay County | Clay County Courthouse, 111 East Chestnut Street, Room 106, Louisville, IL 62858.
Village of Clay City | Village Hall, 318 South Walnut Street SE, Clay City, IL 62824.
Village of Louisville | Village Hall, 177 South Main Street, Louisville, IL 62858.
Village of Sailor Springs | Village Hall, 107 South Washington Street, Sailor Springs, IL 62824.
Effingham County, Illinois and Incorporated Areas
Docket No.: FEMA-B-2364
City of Altamont | Municipal Building, 202 North 2nd Street, Altamont, IL 62411.
City of Effingham | City Hall, 201 East Jefferson Avenue, Effingham, IL 62401.
Unincorporated Areas of Effingham County | Effingham County Courthouse, 101 North 4th Street, Suite 304, Effingham, IL 62401.
Village of Dieterich | Village Hall, 103 West Section Street, Dieterich, IL 62424.
Village of Teutopolis | Village Hall, 106 West Main Street, Teutopolis, IL 62467.
Village of Watson | Village Hall, 104 North Monroe Street, Watson, IL 62473.
Holmes County, Mississippi and Incorporated Areas
Docket No.: FEMA-B-2275
City of Lexington | City Hall, 112 Spring Street, Lexington, MS 39095.
Unincorporated Areas of Holmes County | Holmes County Administrative Offices, 408 Court Square, Lexington, MS 39095.
Leflore County, Mississippi and Incorporated Areas
Docket No.: FEMA-B-2275
Unincorporated Areas of Leflore County | Leflore County Chancery Clerk's Office, 306 West Market Street, Greenwood, MS 38930.
Madison County, Mississippi and Incorporated Areas
Docket No.: FEMA-B-1936, B-2035, B-2275
City of Canton | City Hall, 226 East Peace Street, Canton, MS 39046.
City of Madison | City Hall, 1004 Madison Avenue, Madison, MS 39110.
City of Ridgeland | City Hall, 100 West School Street, Ridgeland, MS 39157.
Pearl River Valley Water Supply District | Pearl River Valley Water Supply District Building and Permit Department, 100 Reservoir Park Road, Brandon, MS 39047.
Unincorporated Areas of Madison County | Madison County Administrative Building, 125 West North Street, Canton, MS 39046.
Bertie County, North Carolina and Incorporated Areas
Docket No.: FEMA-B-2303
Town of Askewville | Bertie County Inspection Department, 106 Dundee Street, Windsor, NC 27983.
Town of Colerain | Town Hall, 101 Winton Street, Suite B, Colerain, NC 27924.
Town of Lewiston-Woodville | Town Hall, 103 West Church Street, Lewiston-Woodville, NC 27849.
Town of Windsor | Building Inspections Department, 128 South King Street, Windsor, NC 27983.
Unincorporated Areas of Bertie County | Bertie County Inspection Department, 106 Dundee Street, Windsor, NC 27983.
Jones County, North Carolina and Incorporated Areas
Docket No.: FEMA-B-1718 and B-2077
Unincorporated Areas of Jones County | Jones County Government Office Complex, 418 Highway 58 North, Trenton, NC 28585.
New Hanover County, North Carolina and Incorporated Areas
Docket No.: FEMA-B-1523
Unincorporated Areas of New Hanover County | New Hanover County Engineering Department, 230 Government Center Drive, Suite 160, Wilmington, NC 28403.
Onslow County, North Carolina and Incorporated Areas
Docket No.: FEMA-B-1523 and B-1718
Town of Holly Ridge | Town Hall, 212 North Dyson Street, Holly Ridge, NC 28445.
Town of North Topsail Beach | Town Hall, 2008 Loggerhead Court, North Topsail Beach, NC 28460.
Unincorporated Areas of Onslow County | Onslow County Floodplain Administration, 234 Northwest Corridor Boulevard, Jacksonville, NC 28540.
Pitt County, North Carolina and Incorporated Areas
Docket No.: FEMA-B-2303
Unincorporated Areas of Pitt County | Pitt County Office Building, 1717 West 5th Street, Greenville, NC 27834.
Hays County, Texas and Incorporated Areas
Docket No.: FEMA-B-1757, B-2032, B-2330, and B-2275
City of Buda | Engineering Department, 405 East Loop Street, Building 100, Buda, TX 78610.
City of Dripping Springs | Public Works Department, 511 Mercer Street, Dripping Springs, TX 78620.
City of Kyle | Building Department, 100 West Center Street, Kyle, TX 78640.
City of San Marcos | Engineering Department, City Hall, 630 East Hopkins Street, San Marcos, TX 78666.
City of Wimberley | Planning and Development, 221 Stillwater Road, Wimberley, TX 78676.
City of Woodcreek | City Hall, 41 Champions Circle, Woodcreek, TX 78676.
Unincorporated Areas of Hays County | Hays County Development Services Department, 2171 Yarrington Road, Suite 100, Kyle, TX 78640.
Village of Bear Creek | Village of Bear Creek Mayor's Office, 6705 Highway 290 West, Austin, TX 78753.
Monroe County, West Virginia and Incorporated Areas
Docket No.: FEMA-B-2345
Town of Alderson | City Hall, 311 South Monroe Street, Alderson, WV 24910.
Town of Peterstown | Town Hall, 229 Thomas Street, Peterstown, WV 24963.
Unincorporated Areas of Monroe County | Monroe County 911 Center, 39 Nota Street, Union, WV 24983.

[FR Doc. 2024-22067 Filed 9-25-24; 8:45 am]

BILLING CODE 9110-12-P